DEPARTMENT OF DEFENSE

Office of the Secretary

Submission for OMB Review; Comment Request

ACTION: Notice.

SUMMARY: The Department of Defense will submit to the Office of Management and Budget for emergency processing, the following proposal for collection of information under the provisions of the Paperwork Reduction Act (44 U.S.C. 35).

DATES: An approval date by May 23, 2003, has been requested.

Title and OMB Number: Foreign Sourcing for Defense Applications; OMB Number 0704-0419.

Type of Request: Reinstatement.

Number of Respondents: 500

Responses per Response: 1.

Annual Responses: 500.

Average Burden per Response: 5 hours.

Annual Burden Hours: 2,500.

Needs and Uses: This information collection is required for the Department of Defense to assess the impact of potential supply disruption of key components provided by non-US suppliers. The information to be analyzed under the study shall be collected from prime contractors and first and second tier subcontractors. Specifically, DoD will determine the: (1) Extent of foreign sourcing within the specified defense products; (2) impact such foreign sourcing has on military readiness; and, (3) extent to which DoD or contractor policies, procedures, practices, or actions encourage or discourage consideration of foreign sources for defense products.

Affected Public: Business or Other For-Profit.

Frequency: One-time.

Respondent's Obligation: Voluntary.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written request for copies of the information collection proposal should be sent to Mr. Cushing, WHS/DIOR, 1215 Jefferson Davis Highway, Suite 1204, Arlington, VA 22202-4302.

Dated: May 13, 2003.
Patricia L. Toppings,
Alternate OSD Federal Register Liaison Officer, Department of Defense.

[FR Doc. 03-12505 Filed 5-19-03; 8:45 am]

BILLING CODE 5001-08-M